DEPARTMENT OF AGRICULTURE

Farm Service Agency

[Docket ID: FSA-2022-0012]

Information Collection Requests; Direct Loan Making; Direct Loan Servicing-Regular; Servicing Minor Program Loans

AGENCY: Farm Service Agency, USDA.

ACTION: Notice; request for comments.

SUMMARY: In accordance with the Paperwork Reduction Act (PRA) of 1995, the Farm Service Agency (FSA) is requesting comments from all interested individuals and organizations on a revision of three currently approved information collection associated with Direct Loan Making Program, Direct Loan Servicing—Regular and Servicing Minor Program Loans. For Direct Loan Making, the collected information is used in eligibility and feasibility determinations on farm loan applications. In the Direct Loan Servicing—Regular, the information is used to determine borrower compliance with loan agreements, assist the borrower in achieving business goals, and regular servicing of the loan account such as graduation, subordination, partial release, and use of proceeds. In Servicing Minor Program Loans, the information collected is used to perform routine and special servicing actions for loans authorized and serviced under FSA's Minor Loan Program.

DATES: We will consider comments that we receive by November 21, 2022.

ADDRESSES: We invite you to submit comments in response to this notice. FSA prefers that the comments are submitted electronically through the Federal eRulemaking Portal, identified by Docket ID No. FSA-2022-0012, go to http://www.regulations.gov and search for docket ID FSA-2022-0012. Follow the online instructions for submitting comments.

All comments received will be posted without change and made publicly available on www.regulations.gov.

FOR FURTHER INFORMATION CONTACT: For specific questions related to the collection activities or to obtain a copy of the information collection request: For the Direct Loan Making Program please contact Raenata Walker-Cohen; telephone; (202) 205-0682; email: raenata.walker-cohen@usda.gov; for Direct Loan Servicing—Regular or Servicing Minor Program Loans, please contact Lee Nault, (202) 720-6834; lee.nault@usda.gov. Persons with disabilities who require alternative means for communication should contact the USDA Target Center at (202) 720-2600 (voice) or (844) 433-2774 (toll-free nationwide).

SUPPLEMENTARY INFORMATION:

Title: Farm Loan Programs, Direct Loan Making.

OMB Control Number: 0560-0237.

Type of Request: Revision.

Abstract: FSA's Farm Loan Programs provide loans to family farmers to purchase real estate and equipment, and to finance agricultural production. Direct Loan Making (including Direct Farm Ownership Microloan (DFOML)) regulations in 7 CFR part 764 provide the requirements and process for determining an applicant's eligibility for a direct loan.

FSA will be streamlining and simplifying the forms and application process to follow the Executive Order 14058—Transforming Federal Customer Experience and Service Delivery to Rebuild Trust in Government. Thus, the form FSA-2001, “Request for Direct Loan Assistance” has been amended to consolidate the current loan application package into one, simplified, concise form.

The following forms will also be consolidated and will no longer be required as a part of a complete direct loan application. Those forms are not being rendered obsolete because those forms are being used for the Farm Storage Facility Loan Program (FSFL) that was exempted from the Paperwork Reduction Act (7 U.S.C. 9091(c)(2)(B)) and not accounted for in the burden hours in the request. FSA-2330, Request for Microloan Assistance; FSA-2002, Three Year Financial History; FSA-2003, Three Year Production History; FSA-2004, Authorization to Release Information; FSA-2005, Creditor List; FSA-2006, Property Owned and Leased; FSA-2037, Farm Business Plan Worksheet/Balance Sheet; FSA-2038, Farm Business Plan Worksheet/Projected/Actual Income & Expense; and FSA-2302, Description of Farm Training and Experience.

As it relates solely to the form FSA-2001, the burden hours are projected to increase due to the consolidation of multiple forms into one. The burden hours of the package in its entirety are expected to increase by 61,661 while decreasing the estimated annual number of responses by 135,668.

For the following estimated total annual burden on respondents, the formula used to calculate the total burden hour is the estimated average time per responses hours multiplied by the estimated total annual responses.

Estimate of Average Time to Respond: Public reporting burden for the information collection is estimated to average 0.4968 hours per response.

Type of Respondents: Individuals or households, businesses or other for-profit farms.

Estimated Annual Number of Respondents: 189,772.

Estimated Number of Reponses per Respondent: 2.97.

Estimated Total Annual Responses: 562,726.

Estimated Average Time per Response: 0.4968 hours.

Estimated Total Annual Burden on Respondents: 279,588 hours.

Title: Farm Loan Programs—Direct Loan Servicing—Regular.

OMB Control Number: 0560-0236.

Expiration Date: September 30, 2023.

Type of Request: Revision.

Abstract: FSA's Farm Loan Programs provide loans to family farmers to purchase real estate and equipment, and finance agricultural production. Direct Loan Servicing—Regular, as specified in 7 CFR part 765, provides the requirements related to routine servicing actions associated with direct loans. FSA is required to actively supervise its borrowers and provide credit counseling, management advice and financial guidance. Additionally, FSA must document that credit is not available to the borrower from commercial credit sources in order to maintain eligibility for assistance. Information collections established in the regulation are necessary for FSA to monitor and account for loan security, including proceeds derived from the sale of security, and to process a borrower's request for subordination or partial release of security. Borrowers are required to provide financial information to determine graduation eligibility based on commercial lender standards provided to FSA.

The existing approved request is being revised due to a change in use of one of the forms, FSA-2060 “Application for Subordination (Real or Personal), or Partial Release, or Consent for Real Estate Security.” FSA intends to utilize this form for servicing requests in place of the FSA-2001. With minimal revisions, FSA was able to edit the existing FSA-2060 to capture the information previously requested on the FSA-2001.

FSA is requesting OMB approval on the revised, estimated numbers, which are being provided in this request. The burden hours increased by 235 hours while the annual responses have increased by 470. The reason for the increase is due to an increase of the number of borrowers who utilize the revised FSA-2060 to request servicing actions.

For the following estimated total annual burden on respondents, the formula used to calculate the total burden hours is the estimated average time per responses multiplied by the estimated total annual of responses.

Estimate of Annual Burden: Public reporting burden for this collection of information is estimated to average 0.3086 hours per response.

Type of Respondents: Individuals, associations, partnerships, or corporations.

Estimated Number of Respondents: 94,951.

Estimated Annual Number of Responses per Respondent: 1.046.

Estimated Total Annual of Responses: 98,970.

Estimated Average Time per Responses: 0.3086 hours.

Estimated Total Annual Burden on Respondents: 30,550 hours.

Title: Servicing Minor Program Loans.

OMB Control Number: 0560-0230.

Expiration Date: August 31, 2025.

Type of Request: Revision.

Abstract: Section 331(b) of the Consolidated Farm and Rural Development Act (CONTACT, 7 U.S.C. 1981(b)), in part, authorizes the Secretary of Agriculture to modify, subordinate and release terms of security instruments, leases, contracts, and agreements entered by FSA. That section also authorizes transfers of security property, as the Secretary deems necessary, to carry out the purpose of the loan or protect the Government's financial interest. Section 335 of the CONACT (7 U.S.C. 1985) provides servicing authority for real estate security; operation or lease of realty; disposition of property; conveyance of real property interest of the United States; easements; and condemnations.

The information collection relates to a program benefit recipient or loan borrower requesting action on security they own, which was purchased with FSA loan funds, improved with FSA loan funds or has otherwise been mortgaged to FSA to secure a government loan. The information collected is primarily financial data not already on file, such as borrower asset values, current financial information and public use and employment data.

The existing approved request is being revised due to a change in the use of one of the forms, FSA-2060 “Application for Subordination (Real or Personal), or Partial Release, or Consent for Real Estate Security.” FSA intends to utilize this form for servicing requests in place of the FSA-2001. FSA will edit the existing FSA-2060 to capture the information previously requested on the FSA-2001. Even though FSA will use the revised FSA-2060 under the OMB Control Number of 0560-0236, there is no anticipated increase or decrease in usage for loans serviced under this program. Thus, the burden hours have not changed.

For the following estimated total annual burden on respondents, the formula used to calculate the total burden hour is the estimated average time per responses hours multiplied by the estimated total annual responses.

Estimate of Annual Burden: Public reporting burden for this collection of information is estimated to average 0.64 hours per response.

Type of Respondents: Individuals, associations, partnerships, or corporations.

Estimated Number of Respondents: 58.

Estimated Annual Number of Responses per Respondent: 1.

Estimated Total Annual of Responses: 58.

Estimated Average Time per Responses: 0.64 hours.

Estimated Total Annual Burden on Respondents: 37 hours.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

William Marlow,
Acting Administrator, Farm Service Agency.

[FR Doc. 2022-20250 Filed 9-19-22; 8:45 am]

BILLING CODE 3410-05-P